SMALL BUSINESS ADMINISTRATION

[Disaster Declaration #10299 and #10300]

Connecticut Disaster #CT-00002

AGENCY: Small Business Administration.

ACTION: Notice.

SUMMARY: This is a notice of an Administrative declaration of a disaster for the State of Connecticut dated December 21, 2005.

Incident: Severe Flooding.

Incident Period: 10/14/2005 through 10/15/2005.

DATES: Effective Date: 12/21/2005.

Physical Loan Application Deadline Date: 02/21/2006.

Economic Injury (Eidl) Loan Application Deadline Date: 09/21/2006.

ADDRESSES: Submit completed loan applications to: Small Business Administration, National Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration applications for disaster loans may be filed at the address listed above or other locally announced locations.

The following areas have been determined to be adversely affected by the disaster:

Primary Counties:

Hartford, Litchfield, Tolland

Contiguous Counties: Connecticut

Fairfield, Middlesex, New Haven, New London, Windham

Massachusetts

Berkshire, Hampden, Worcester

New York

Dutchess

The Interest Rates are:

| Percent
Homeowners With Credit Available Elsewhere | 5.375
Homeowners Without Credit Available Elsewhere | 2.687
Businesses With Credit Available Elsewhere | 6.557
Businesses & Small Agricultural Cooperatives Without Credit Available Elsewhere | 4.000
Other (Including Non-Profit Organizations) With Credit Available Elsewhere | 4.750
Businesses And Non-Profit Organizations Without Credit Available Elsewhere | 4.000

The number assigned to this disaster for physical damage is 10299 6 and for economic injury is 10300 0.

The States which received an EIDL Declaration # are Connecticut, Massachusetts, New York.

(Catalog of Federal Domestic Assistance Numbers 59002 and 59008)

Dated: December 21, 2005.
Hector V. Barreto,
Administrator.

[FR Doc. E5-7998 Filed 12-28-05; 8:45 am]

BILLING CODE 8025-01-P